DEPARTMENT OF DEFENSE

Office of the Secretary

[Docket ID: DOD-2010-OS-0163]

Privacy Act of 1974; System of Records

AGENCY: Defense Threat Reduction Agency, DoD.

ACTION: Notice to amend a system of records.

SUMMARY: Defense Threat Reduction Agency is amending a system of records notice in its existing inventory of record systems subject to the Privacy Act of 1974, (5 U.S.C. 552a), as amended.

DATES: This proposed action will be effective without further notice on January 13, 2011 unless comments are received which result in a contrary determination.

ADDRESSES: You may submit comments, identified by docket number and/Regulatory Information Number (RIN) and title, by any of the following methods:

* Federal Rulemaking Portal: http://www.regulations.gov.

Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Freedom of Information and Privacy Office, Defense Threat Reduction Agency, 8725 John J. Kingman Road, Fort Belvoir, VA 22060-6201, or Ms. Brenda Carter at (703) 767-1771.

SUPPLEMENTARY INFORMATION: The Defense Threat Reduction Agency notices for systems of records subject to the Privacy Act of 1974 (5 U.S.C. 552a), as amended, have been published in the Federal Register and are available from the FOR FURTHER INFORMATION CONTACT address above.

The specific changes to the record systems being amended are set forth below followed by the notice, as amended, published in its entirety. The proposed amendments are not within the purview of subsection (r) of the Privacy Act of 1974, (5 U.S.C. 552a), as amended, which requires the submission of a new or altered system report.

Dated: December 8, 2010.
Morgan F. Park,
Alternate OSD Federal Register Liaison Officer, Department of Defense.

HDTRA 013

System Name:

Assignment and Correspondence Tracking System (December 15, 2008, 73 FR 76008.

Changes:

* * * * *

System Location:

Delete entry and replace with “Headquarters, Defense Threat Reduction Agency (DTRA), Office of the Chief of Staff, ATTN: Secretary of the Director's Staff, 8725 John J. Kingman Road, Fort Belvoir, VA 22060-6201.”

* * * * *

Retrievability:

Delete entry and replace with “By individual's name.”

* * * * *

Retention and disposal:

Delete entry and replace with “Destroy or delete when 2 years old, or 2 years after the date of the latest entry, whichever is applicable.”

System Manager(s) and address:

Delete entry and replace with “Office of Chief of Staff/Director-Chief of Staff-Secretary of the Director's Staff (DIR-COS-SDS), Defense Threat Reduction Agency, 8725 John J. Kingman Road, Fort Belvoir, VA 22060-6201.”

Notification Procedures:

Delete entry and replace with “Individuals seeking to determine whether this system of records contains information about themselves should address written inquires to Defense Threat Reduction Agency, Office of the Chief of Staff, ATTN: Secretary of the Director's Staff, 8725 John J. Kingman Road, Fort Belvoir, VA 22060-6201.

Individuals should furnish their full name, current address, and telephone number.”

Records Access Procedures:

Delete entry and replace with “Individuals seeking to access records about themselves contained in this system of records should address written inquires to the Defense Threat Reduction Agency, Office of the Chief of Staff, ATTN: Secretary of the Director's Staff, 8725 John J. Kingman Road, Fort Belvoir, VA 22060-6201.

Individuals should furnish their full name, current address, and telephone number.”

* * * * *

HDTRA 013

System Name:

Assignment and Correspondence Tracking System.

System Location:

Headquarters, Defense Threat Reduction Agency (DTRA), Office of the Chief of Staff, ATTN: Secretary of the Director's Staff, 8725 John J. Kingman Road, Fort Belvoir, VA 22060-6201.

Categories of individuals covered by the system:

Individuals assigning, responding to, or subjects of, correspondence and assignments.

Categories of records in the system:

Records may contain an individual's name, Social Security Number (SSN) within supporting documents, physical and electronic, home and duty addresses, and phone numbers, security clearance data, military or civilian rank/grade, and correspondence or supporting documents.

Authorities for maintenance of the system:

5 U.S.C. 301, Departmental Regulations, 10 U.S.C. 136, Under Secretary of Defense for Personnel and Readiness; and E.O. 9397 (SSN), as amended.

Purpose(s):

Establish an electronic system to improve the ability of DTRA to control assignments, correspondence, document actions taken, and locate records for reference purposes. The system is used to initiate, manage, and track assignments coming from outside DTRA as well as those generated within DTRA at the Director, Deputy Director, Chief of Staff, or Enterprise to Enterprise level.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of the U.S Government, contractors, other Governmental agencies, and private sector entities in the performance of their duties as they relate to clarifying issues arising from assignments and correspondence under the Assignment and Correspondence Tracking System.

The DoD “Blanket Routine Uses” set forth at the beginning of the Office of the Secretary of Defense's compilation of system of records notices apply to this system of records.

Policies and practices for storing, retrieving, accessing, retaining, and disposing of records in the system:

Storage:

Paper records and electronic storage media.

Retrievability:

By individual's name.

Safeguards:

Paper files are maintained in secure, limited access, or monitored work areas accessible only to authorized personnel. Electronic media are maintained via an internal Local Area Network (LAN) with workstations and laptops of authorized personnel protected with passwords.

Retention and disposal:

Destroy or delete when 2 years old, or 2 years after the date of the latest entry, whichever is applicable.

System Manager:

Office of Chief of Staff/Director-Chief of Staff-Secretary of the Director's Staff (DIR-COS-SDS), Defense Threat Reduction Agency, 8725 John J. Kingman Road, Fort Belvoir, VA 22060-6201.

Notification procedure:

Individuals seeking to determine whether this system of records contains information about themselves should address written inquiries to the Defense Threat Reduction Agency, Office of the Chief of Staff, ATTN: Secretary of the Director's Staff, 8725 John J. Kingman Road, Fort Belvoir, VA 22060-6201.

Individuals should furnish their full name, current address, and telephone number.

Record access procedures:

Individuals seeking to determine whether this system of records contains information about themselves contained in this system of records should address written inquires to the Defense Threat Reduction Agency, Office of the Chief of Staff: ATTN: Secretary of the Director's Staff, 8725 John J. Kingman Road, Fort Belvoir, VA 22060-6201.

Individuals should furnish their full name, current address, and telephone number.

Contesting record procedures:

The DTRA rules for contesting record content are published in 32 CFR part 318, or may be obtained from the System Manager.

Record source categories:

Individual records subjects, DoD databases, correspondence emanating from external sources, and internal DTRA actions.

Exemptions claimed for the system:

None.

[FR Doc. 2010-31248 Filed 12-13-10; 8:45 am]

BILLING CODE 5001-06-P